SMALL BUSINESS ADMINISTRATION

[Declaration of Disaster #3266]

State of Louisiana (And Contiguous Counties in Texas and Arkansas)

Caddo Parish and the contiguous Parishes of Bossier, De Soto, and Red River in the State of Louisiana; Cass, Harrison, Marion, and Panola Counties in the State of Texas; and Miller and Lafayette Counties in the State of Arkansas constitute a disaster area as a result of damages caused by severe storms and tornadoes that occurred on April 23, 2000. Applications for loans for physical damage as a result of this disaster may be filed until the close of business on August 25, 2000, and for economic injury until the close of business on March 26, 2001, at the address listed below or other locally announced locations: U.S. Small Business Administration, Disaster Area 3 Office, 4400 Amon Carter Blvd., Suite 102, Ft. Worth, TX 76155.

The interest rates are:

For Physical Damage

Homeowners with credit available elsewhere—7.375%

Homeowners without credit available elsewhere—3.687%

Businesses with credit available elsewhere—8.000%

Businesses and non-profit organizations without credit available elsewhere—4.000%

Others (including non-profit organizations) with credit available elsewhere—6.750%

For Economic Injury

Businesses and small agricultural cooperatives without credit available elsewhere—4.000%

The numbers assigned to this disaster for physical damage are 326612 for Louisiana, 326712 for Texas, and 326812 for Arkansas. For economic injury the numbers are 9H5600 for Louisiana, 9H5700 for Texas, and 9H5800 for Arkansas.

(Catalog of Federal Domestic Assistance Program Nos. 59002 and 59008)
Dated: June 26, 2000.
Aida Alvarez,
Administrator.

[FR Doc. 00-16982 Filed 7-5-00; 8:45 am]

BILLING CODE 8025-01-U